DEPARTMENT OF LABOR

Employment and Training Administration

TA-W-39,049 Saunders Manufacturing Co., Inc., Winthrop, Maine; TA-W-39,049A Saunders Manufacturing Co., Inc., Meridian, Mississippi; Notice of Termination of Investigation

Pursuant to section 221 of the Trade Act of 1974, an investigation was initiated on April 16, 2001, in response to a petition filed on behalf of workers at Saunders Manufacturing Company, Inc., Winthrop, Maine and Meridian, Mississippi.

The company official submitting the petition has requested that the petition be withdrawn. Consequently, further investigation in this case would serve no purpose, and the investigation has been terminated.

Signed in Washington, DC this 22nd day of May, 2001.
Edward A. Tomchick,
Certifying Officer, Divison of Trade Adjustment Assistance.

[FR Doc. 01-14424 Filed 6-7-01; 8:45 am]

BILLING CODE 4510-30-M